DEPARTMENT OF ENERGY

Federal Energy Regulatory Commission

Notice of Application for Surrender of Exemption From Licensing and Soliciting Comments, Motions To Intervene, and Protests

June 30, 2004.

Take notice that the following hydroelectric application has been filed with the Commission and is available for public inspection:

a. Application Type: Surrender of Small Conduit Exemption.

b. Project No.: 7330-001.

c. Date Filed: June 7, 2004.

d. Applicant: Tehachapi-Cummings County Water District.

e. Name of Project: Power Recovery Number 1 Hydroelectric Project.

f. Location: Located at an existing pressure reducing station on the Tehachapi-Cummings County Water District's main pipeline, Tehachapi River, Kern County, California. No federal lands would be affected.

g. Filed Pursuant to: Federal Power Act, 16 U.S.C. 791a-825r.

h. Applicant Contact: Mr. Glen Mueller, Tehachapi-Cummings County Water District, 22901 Banducci Road, Post Office Box 326, Tehachapi, CA 93561, (661) 822-5504.

i. FERC Contact: Jean Potvin, (202) 502-8928.

j. Deadline for Filing Comments and or Motions: July 30, 2004.

All documents (original and eight copies) should be filed with: Ms. Magalie R. Salas, Secretary, Federal Energy Regulatory Commission, 888 First Street, NE., Washington, DC 20426. Please include the project number ( P-7330-001) on any comments or motions filed.

Comments, protests, and interventions may be filed electronically via the Internet in lieu of paper. See, 18 CFR 385.2001(a)(1)(iii) and the instructions on the Commission's Web site at http://www.ferc.gov under the “e-Filing” link. The Commission strongly encourages electronic filings.

k. Description of Request: The Tehachapi-Cummings County Water District proposes to surrender its exemption from licensing for the conduit Power Recovery Number 1 Project because the generator and system are in need of extensive repair and the repair costs would not be realized over the next 20 years. The project consists of a bypass conduit at the existing pressure reducing station, a single turbine-generator unit with a rated capacity of 0.46 kW, and 100 feet of 12.0-kV transmission line. The applicant proposes to remove some pipe and add blind flanges.

l. Locations of the Application: This filing is available for review and reproduction at the Commission in the Public Reference Room, Room 2A, 888 First Street, NE., Washington, DC 20426. The filing may also be viewed on the Web at http://www.ferc.gov using the “eLibrary” link. Enter the docket number, here P-7330, in the docket number field to access the document. For assistance, contact FERC Online Support at FERCOnline Support@ferc.gov or call toll-free (866) 208-3676, for TTY, call (202) 502-8659. A copy is also available for inspection and reproduction at the Tucson Water Department.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E4-1496 Filed 7-7-04; 8:45 am]

BILLING CODE 6717-01-P